DEPARTMENT OF ENERGY

Western Area Power Administration

Montana/Dakotas Regional Transmission Study Scope

AGENCY: Western Area Power Administration, DOE.

ACTION: Notice of public workshop and request for comments.

SUMMARY: The Western Area Power Administration (Western), a Federal power marketing agency of the Department of Energy, will hold a public workshop to solicit input on a planning study of transmission expansion options and projected costs in Western's Upper Great Plains Region. Western is soliciting suggestions from interested parties for the sites in Montana and North Dakota that should be studied as potential locations for new generation and possible transmission alternatives needed to deliver these resources to the eastern and western electric grids. This study is being conducted in accordance with the Supplemental Appropriations Act, 2001, (Pub. L. 107-20, Chapter 4). Western will accept oral and written comments on the study scope at the workshop and will accept written comments until November 2, 2001. A final scope of study will be published November 21, 2001, and posted on Western's Website at www.wapa.gov.

DATES: The workshop will be held October 19, 2001, from 9:30 a.m. to 12 p.m. (noon) and 1 p.m. to 4:30 p.m. MDT. Lunch will not be provided. All comments must be received by November 2, 2001, to assure consideration.

ADDRESSES: The workshop will be held at the Sheraton Hotel, 27 North 27th Street, Billings, Montana. All comments should be sent to: Ms. Robin Johnson, Project Manager, Western Area Power Administration, 2900 4th Avenue North, Billings, MT 59101-1266. Comments may also be faxed to (406) 247-7408 or e-mailed to UGPRStudy@wapa.gov.

FOR FURTHER INFORMATION CONTACT: Ms. Robin Johnson, Project Manager, Upper Great Plains Customer Region, Western Area Power Administration, 2900 4th Avenue North, Billings, MT 59101-1266, telephone: (406) 247-7426, e-mail: UGPRStudy@wapa.gov.

SUPPLEMENTARY INFORMATION: The Upper Great Plains Region owns, operates, and maintains 7,700 miles of transmission and 99 substations in Montana, North Dakota, South Dakota, Minnesota, Iowa, and Nebraska. This transmission grid was designed and constructed to deliver Federal hydropower to more than 300 preference customers in the Region, but is constrained from accepting new generation resources presently being planned in Montana and North Dakota. This study will identify potential new generation sites and evaluate enhancements to the existing transmission system along with new transmission projects needed to deliver new energy resources to customers in both the east and west grids.

The workshop will consist of a brief presentation on transmission constraints in the Western transmission system, possible remedies, and presently planned system improvements. Open discussion of new projects will follow. Maps of the existing transmission system will be available to assist workshop participants in locating proposed projects. Western's staff will review the proposed projects and develop a final scope of study by November 21, 2001. The final study scope will be posted on Western's Website at www.wapa.gov. Various types of generation and both alternating current and direct current technology will be considered. The study will require assumptions as to future generation locations for creation of a benchmark model. Power flow and stability analyses will be conducted on the selected scenarios as limited by study schedule and budget. A final report of study results will be published in June 2002 and posted on Western's Website at www.wapa.gov. Electronic copies will be available by request.

Dated: September 14, 2001.
Michael S. Hacskaylo,
Administrator.

[FR Doc. 01-24313 Filed 9-27-01; 8:45 am]

BILLING CODE 6450-01-P